DEPARTMENT OF COMMERCE

Office of the Secretary

Membership of the Department Performance Review Board

AGENCY: Office of the Secretary, Department of Commerce.

ACTION: Notice of membership on the Department Performance Review Board.

SUMMARY: The Department of Commerce announces the appointment of those individuals who have been selected to serve as members of the Department Performance Review Board. The Department Performance Review Board is responsible for reviewing performance appraisals and ratings of select Senior Executive Service (SES) members. The appointment of these members to the Performance Review Board will be for a period of twenty-four (24) months.

DATES: The period of appointment for those individuals selected for the Department Performance Review Board begins on November 5, 2021.

FOR FURTHER INFORMATION CONTACT: Christine Covington, U.S. Department of Commerce, Office of Human Resources Management, Office of Executive Resources, 14th and Constitution Avenue NW, Room 50013, Washington, DC 20230, at (202)482-2613.

SUPPLEMENTARY INFORMATION: In accordance with 5 U.S.C. 4314 (c) (4), the Office of the Secretary, Department of Commerce (DOC), announces the appointment of those individuals who have been selected to serve as members of the Office of the Secretary Department Performance Review Board. The Department Performance Review Board is responsible for reviewing performance appraisals and ratings of select Senior Executive Service (SES) members. The appointment of these members to the Department Performance Review Board will be for a period of twenty-four (24) months.

The name and position title of each primary member of the Department Performance Review Board are set forth below:

Monica Gorman, Deputy Assistant Secretary for Manufacturing, International Trade Administration

Isabel Lisle Hannah, Director for Facilities and Environmental Quality, Office of the Secretary

Albert Fontenot, Associate Director for Decennial Census, U.S. Census Bureau

Benjamin Friedman, Deputy Under Secretary for Operations, National Oceanic and Atmospheric Administration

The name and position title of each alternate member of the Department Performance Review Board are set forth below:

Carol Rose, Chief Financial Officer and Director for Administration, Bureau of Industry and Security

Dennis Alvord, Deputy Assistant Secretary for Economic Development, Economic Development Administration

Dated: November 2, 2021
Christine Covington,
Human Resources Specialist, Office of Executive Resources, Office of Human Resources Management, Office of the Secretary, Department of Commerce.

[FR Doc. 2021-24241 Filed 11-4-21; 8:45 am]

BILLING CODE 3510-25-P